ENVIRONMENTAL PROTECTION AGENCY

40 CFR Part 63

[EPA-HQ-OAR-2020-0556; FRL-8335-04-OAR]

RIN 2060-AV35

Testing Provisions for Air Emission Sources; Correction

AGENCY: Environmental Protection Agency (EPA).

ACTION: Final rule; correction.

SUMMARY: The Environmental Protection Agency (EPA) is correcting a final rule that was published in the Federal Register on March 29, 2023, that will be effective on May 30, 2023. The final rule corrected and updated regulations for source testing of emissions. This correction does not change any final action taken by the EPA on March 29, 2023.

DATES: Effective May 30, 2023.

ADDRESSES: The EPA has established a docket for this action under Docket ID No. EPA-HQ-OAR-2020-0556. All documents in the docket are listed on the www.regulations.gov website. Although listed in the index, some information is not publicly available, e.g., confidential business information or other information whose disclosure is restricted by statute. Certain other material, such as copyrighted material, is not placed on the internet and will be publicly available only in hard copy. Publicly available docket materials are available electronically through www.regulations.gov.

FOR FURTHER INFORMATION CONTACT: Mrs. Lula H. Melton, Office of Air Quality Planning and Standards, Air Quality Assessment Division (E143-02), Environmental Protection Agency, Research Triangle Park, NC 27711; telephone number: (919) 541-2910; fax number: (919) 541-0516; email address: melton.lula@epa.gov.

SUPPLEMENTARY INFORMATION: In the final rule published on March 29, 2023 (88 FR 18396), the following correction to an amendatory instruction to “Appendix A to Part 63” is made.

Appendix A to Subpart UUUUU of Part 63—[Corrected]

On page 18422, in the first column, amendatory instruction 26 is corrected to read: “26. Amend appendix A to subpart UUUUU of part 63 by revising sections 4.1.1.5 and 4.1.1.5.1 to read as follows:”

Date: April 12, 2023.
Richard A. Wayland,
Director, Air Quality Assessment Division, Office of Air Quality Planning and Standards.

[FR Doc. 2023-08178 Filed 4-19-23; 8:45 am]

BILLING CODE 6560-50-P